DEPARTMENT OF COMMERCE

International Trade Administration

[A-570-044]

1,1,1,2-Tetrafluoroethane (R-134A) From the People's Republic of China: Notice of Rescission of the Antidumping Duty Administrative Review; 2016-2018

AGENCY: Enforcement and Compliance, International Trade Administration, Department of Commerce.

SUMMARY: The Department of Commerce (Commerce) is rescinding the administrative review of the antidumping order on 1,1,1,2-tetrafluoroethane (R-134A) from the People's Republic of China (China) covering the October 7, 2016, through March 31, 2018, period of review (POR).

DATES: Applicable September 11, 2018.

FOR FURTHER INFORMATION CONTACT: Paul Stolz, AD/CVD Operations, Office III, Enforcement and Compliance, International Trade Administration, U.S. Department of Commerce, 1401 Constitution Avenue NW, Washington, DC 20230; telephone: (202) 482-4474.

SUPPLEMENTARY INFORMATION:

Background

On April 2, 2018, Commerce published a notice of opportunity to request an administrative review of the antidumping duty order on R-134A from China.¹ On April 27, and April 30, 2018, Commerce received timely requests for review from two producers and/or exporters of the subject merchandise: T.T. International Co., Ltd. (TTI) and Zhejiang Sanmei Chemical Ind. Co., Ltd. (also known as Zhejiang Sanmei Chemical Industry Co., Ltd. or “Zhejiang Sanmei”) (Sanmei).² Based on these requests, on June 6, 2018, in accordance with section 751(a) of the Tariff Act of 1930, as amended (the Act), Commerce published in the Federal Register a notice of initiation of an administrative review covering the October 7, 2016, through March 31, 2018 POR, with respect to TTI and Sanmei.³ On August 7 and 21, 2018, TTI and Sanmei, respectively, timely withdrew their requests for an antidumping duty administrative review, pursuant to 19 CFR 351.213(d)(1).⁴ No other party requested a review of this order.

¹ See Antidumping or Countervailing Duty Order, Finding, or Suspended Investigation; Opportunity to Request Administrative Review, 83 FR 13949 (April 2, 2018).

² See the letter from TTI, “1,1,1,3-Tetrafluoroethane (R-134A) from the People's Republic of China: Request for Antidumping Duty Administrative Review,” dated April 27, 2018 and the letter from Sanmei, “1,1,1,2-Tetrafluoroethane (R-134A) from the People's Republic of China: Request for Administrative Review,” dated April 30, 2018.

³ See Initiation of Antidumping and Countervailing Duty Administrative Reviews, 83 FR 26258 (June 6, 2018) (Initiation Notice).

⁴ See letter from TTI, “Antidumping Duty Administrative Review of 1,1,1,2 Tetrafluoroethane (R134a) from the People's Republic of China; Withdrawal of Request for Antidumping Duty Administrative Review,” dated August 7, 2018, and letter from Sanmei, “1,1,1,2-Tetrafluoroethane (R-134A) from China: Withdrawal of Request for Antidumping Duty Administrative,” dated August 21, 2018.

Rescission

Pursuant to 19 CFR 351.213(d)(1), Commerce will rescind an administrative review, in whole or in part, if a party who requested a review withdraws the request within 90 days of the date of publication of the notice of initiation of the requested review. TTI and Sanmei both timely withdrew their requests for an administrative review within the 90-day deadline, and no other party requested an administrative review of this order. Therefore, we are rescinding the administrative review of antidumping duty order on R-134A from China covering the period October 7, 2016 through March 31, 2018, in its entirety.

Assessment

Because Commerce is rescinding this administrative review in its entirety, Commerce will instruct U.S. Customs and Border Protection (CBP) to assess antidumping duties on all appropriate entries of R-134A from China. The entries to which this administrative review pertains shall be assessed antidumping duties at rates equal to the cash deposits of estimated antidumping duties required at the time of entry, or withdrawal from warehouse, for consumption, in accordance with 19 CFR 351.212(c)(1)(i). Commerce intends to issue appropriate assessment instructions to CBP 15 days after the publication of this notice in the Federal Register.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: August 31, 2018.
James Maeder,
Associate Deputy Assistant Secretary for Antidumping and Countervailing Duty Operations performing the duties of the Deputy Assistant Secretary for Antidumping and Countervailing Duty Operations.

[FR Doc. 2018-19568 Filed 9-10-18; 8:45 am]

BILLING CODE 3510-DS-P